DEPARTMENT OF THE INTERIOR

National Park Service

[NPS-WASO-NAGPRA-17923;PPWOCRADN0-PCU00RP14.R50000]

Notice of Inventory Completion: San Bernardino County Museum, Redlands, CA

AGENCY: National Park Service, Interior.

ACTION: Notice.

SUMMARY: The San Bernardino County Museum (SBCM) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the SBCM. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the SBCM at the address in this notice by May 28, 2015.

ADDRESSES: Leonard X. Hernandez, Interim Director, San Bernardino County Museum, 2024 Orange Tree Lane, Redlands, CA 92374, telephone (909) 387-2220, email leonard.hernandez@lib.sbcounty.gov.

SUPPLEMENTARY INFORMATION: Notice is here given in accordance with the Native American Graves Protection and Repatriation Act (NAGPRA), 25 U.S.C. 3003, of the completion of an inventory of human remains under the sole control of the San Bernardino County Museum. The human remains were removed from the Temeeku site in Riverside County, CA.

This notice is published as part of the National Park Service's administrative responsibilities under NAGPRA, 25 U.S.C. 3003(d)(3). The determinations in this notice are the sole responsibility of SBCM that has control of the Native American human remains. The National Park Service is not responsible for the determinations in this notice.

Consultation

A detailed assessment of the human remains was made by the San Bernardino County Museum's professional staff; Dr. Adella Schroth, Curator of Anthropology (retired) and Eric Scott, Curator of Paleontology, in consultation with representatives of the Pechanga Band of Luiseno Mission Indians of the Pechanga Reservation, California; Dr. Alexis Gray, Forensic Anthropologist; San Diego State University's Dr. Arion Mayes, Skeletal Biology, Dental Anthropology and Forensic Anthropology.

History and Description of the Remains

Between 1950 and 1955, human remains representing, at minimum, 2 individuals were removed from the Temeeku site in Riverside County, CA. The human remains were brought into the SBCM's holdings in the early 1950s. The human remains are stored in 16 boxes and include tens of thousands of individual artifacts. No known individuals were identified. No associated funerary objects are present.

The documentation of the excavations is extensive and published in the following: McCown, B.E. Temeku A Page from the History of the Luiseño Indians. Redlands, CA: Archaeological Survey Association of Southern California. 1955; Chartkoff, J.K. and L. Kona. Site Record: Ca-Riv-50. Record on file, Eastern Information Center. 1965; Stein, M. Site Record: Ca-Riv-50. Record on file, Eastern Information Center. 1981; Bowles, L.L. Site Record: Ca-Riv-50. Record on file, Eastern Information Center. 1982; Bowden, Cheryl. Site Record: P-33-000050. Record on file, The Resource Agency Department of Parks and Recreation Primary Record, California. 2002; Carrico, Richard. Strangers in a Stolen Land: Indians in San Diego County from Prehistory to the New Deal. 2nd edition. San Diego: Sunbelt Publications. 2008; Masiel-Zamora, Myra Ruth. Analysis Of `Éxva Teméeku, A Luiseño Indian Village Site Named Temeku, Located In Temecula, California. M.A. Thesis, San Diego State University, Anthropology Department. 2013.

The human remains were removed from a known Luiseno village site located near Temecula, CA. Archeological records compiled during the excavation confirm that the site, Temeeku, is directly related to the Luiseno people. Consultation with the Pechanga Band of Luiseno Mission Indians of the Pechanga Reservation, California, Cultural Resources Department; Dr. Alexis Gray, Forensic Anthropologist; San Diego State University's Dr. Arion Mayes, Skeletal Biology, Dental Anthropology and Forensic Anthropology, has confirmed the location and cultural affiliation of this site with the Luiseno people. The estimated age of the materials from the site represent two distinct periods: Pre-European Contact, circa 1000 C.E., and Spanish Colonization through Mexican Era California, 1769-1848. The Temeeku Site was utilized as both a village site as well as a funeral cremation site by the Luiseno Indians.

Determinations Made by the San Bernardino County Museum

Officials of the SBCM have determined that:

• Pursuant to 25 U.S.C. 3001(9), the human remains described in this notice represent the physical remains of at least 2 individuals of Native American ancestry.

• Pursuant to 25 U.S.C. 3001(2), there is a relationship of shared group identity that can be reasonably traced between the Native American human remains and the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Soboba Band of Luiseno Indians, California.

Additional Requestors and Disposition

Lineal descendants or representatives of any Indian tribe or Native Hawaiian organization not identified in this notice that wish to request transfer of control of these human remains should submit a written request with information in support of the request to Leonard X. Hernandez, Interim Director, San Bernardino County Museum, 2024 Orange Tree Lane, Redlands, CA 92374, telephone (909) 387-2220, email leonard.hernandez@lib.sbcounty.gov, by May 28, 2015. After that date, if no additional requestors have come forward, transfer of control of the human remains to the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; or the Soboba Band of Luiseno Indians, California may proceed.

The San Bernardino County Museum is responsible for notifying the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Soboba Band of Luiseno Indians, California that this notice has been published.

Dated: March 10, 2015.
Mariah Soriano,
Acting Manager, National NAGPRA Program.

[FR Doc. 2015-09927 Filed 4-27-15; 8:45 am]

BILLING CODE 4312-50-P